DEPARTMENT OF TRANSPORTATION

Federal Aviation Administration

Membership in the National Parks Overflights Advisory Group

AGENCY: Federal Aviation Administration, Transportation.

ACTION: Notice.

SUMMARY: By Federal Register notice on April 17, 2020 the National Park Service (NPS) and the Federal Aviation Administration (FAA) invited interested persons to apply to fill three current and three future openings on the National Parks Overflights Advisory Group (NPOAG) to represent air tour operator and environmental concerns and Native American interests. This notice informs the public of the selection made for the vacancies representing air tour operator and environmental concerns and invites persons interested in serving on the NPOAG to apply for the ongoing current opening representing Native American concerns.

DATES: Persons interested in applying for the NPOAG opening representing Native American interests need to apply by September 30, 2020.

FOR FURTHER INFORMATION CONTACT: Keith Lusk, Special Programs Staff, Federal Aviation Administration, Western-Pacific Region Headquarters, 727 S. Aviation Boulevard, Suite #150, El Segundo, CA 90245, telephone: (424) 405-7017, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating one-year terms as chairman of the advisory group.

In accordance with the Act, the advisory group provides “advice, information, and recommendations to the Administrator and the Director-

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Members serve 3-year terms. Current members of the NPOAG are as follows:

Melissa Rudinger represents general aviation; Eric Lincoln represents commercial air tour operators with two open seats; Les Blomberg, Robert Randall, John Eastman, and Dick Hingson represent environmental interests; and Carl Slater represents Native American interests with one open seat.

Selection

John Becker of Papillon Grand Canyon Helicopters and James Viola of Helicopter Association International have been selected for the two current open seats to represent commercial air tour operators. Incumbents Les Blomberg of the Noise Pollution Clearinghouse, John Eastman of the Jackson Hole Airport Board, and Dick Hingson of the Sierra Club have been selected to serve new 3 year terms when their current membership expires in September. No selection was made for the current open seat representing Native American interests. These NPOAG members 3 year terms commence on the publication date of this Federal Register notice.

The FAA and NPS invite persons interested in applying for the one remaining opening on the NPOAG to contact Mr. Keith Lusk (contact information is written above in FOR FURTHER INFORMATION CONTACT). Requests to serve on the NPOAG must be made to Mr. Lusk in writing and postmarked or emailed on or before September 30, 2020. The request should indicate your affiliation with federally-recognized Native American tribes, as appropriate. The request should also state what expertise you would bring to the NPOAG as related to issues and concerns with aircraft flights over tribal lands and national parks. The term of service for NPOAG members is 3 years.

On August 13, 2014, the Office of Management and Budget issued revised guidance regarding the prohibition against appointing or not reappointing federally registered lobbyists to serve on advisory committees (79 FR 47482).

Therefore, before appointing an applicant to serve on the NPOAG, the FAA and NPS will require the prospective candidate to certify that they are not a federally registered lobbyist.

Issued in El Segundo, CA, on August 26, 2020.
Keith Lusk,
Program Manager, Special Programs Staff, Western-Pacific Region.

[FR Doc. 2020-19064 Filed 8-28-20; 8:45 am]

BILLING CODE 4910-13-P